AGRICULTURE DEPARTMENT

Animal and Plant Health Inspection Service

7 CFR Part 319

Foreign Quarantine Notices

CFR Correction

In title 7 of the Code of Federal Regulations, parts 300 to 399, revised as of January 1, 2008, on page 401, in § 319.56-13, in the table in paragraph (a), under Thailand, the entries for Litchi and Longan are removed.

[FR Doc. E8-9962 Filed 5-6-08; 8:45 am]

BILLING CODE 1505-01-D